DEPARTMENT OF LABOR

Employment and Training Administration

American Recovery and Reinvestment Act of 2009; Notice of Availability of Funds and Solicitation for Grant Applications for the Health Care Sector and Other High Growth and Emerging Industries

Announcement Type: Notice of Solicitation for Grant Applications.

Funding Opportunity Number: SGA/DFA PY 09-01.

Catalog of Federal Domestic Assistance (CFDA) Number: 17.275.

Key Dates:

The closing date for receipt of applications under this announcement is October 5, 2009. Applications must be received no later than 4 p.m. Eastern Time. A pre-recorded Webinar will be on-line (http://www.workforce3one.org) and accessible for viewing on August 12, 2009 by 3 p.m. Eastern Time, and will be available for viewing anytime after that date. While a review of this webinar is encouraged it is not mandatory that you view this recording.

ADDRESSES: Mailed applications must be addressed to the U.S. Department of Labor, Employment & Training Administration, Division of Federal Assistance, Attention: Donna Kelly, Grant Officer, Reference SGA/DFA PY 09-01, 200 Constitution Avenue, NW., Room N4716, Washington, DC 20210. For complete “Application and Submission Information,” please refer to Section IV.

SUMMARY: The Department of Labor (DOL, or the Department) announces the availability of approximately $220 million in grant funds authorized by the American Recovery and Reinvestment Act of 2009 (the Recovery Act) for projects that provide training and placement services to help workers pursue careers within the industries described in the Background section, Part B of this SGA. The purpose of the high growth and emerging industries grants funded through this SGA is to teach workers the necessary skills for, and help them pursue careers in, health care and other high growth and emerging industry sectors. Eligible applicants include public entities and private nonprofit organizations. Additional specific eligibility guidance is included in Section III.A, “Eligible Applicants and Required Partnerships.” ETA intends to fund 45-65 grants ranging from approximately $2 to $5 million.

Approximately $25 million of the total funds available through this Solicitation will be reserved for projects serving communities impacted by automotive-related restructuring, though the Department reserves the right to change this amount depending on the quantity and quality of applications submitted under this SGA. See Attachment I for a list of communities impacted by automotive-related restructuring.

Background

A. Recovery Act: Competitive Grants for Worker Training and Placement in High Growth and Emerging Industry Sectors

On February 17, 2009, President Barack Obama signed into law the Recovery Act, through which Congress intended to preserve and create jobs, promote the nation's economic recovery, and assist those most impacted by the recession. Among other funding directed toward the Department, the Recovery Act provides $750 million for a program of competitive grants for worker training and placement in high growth and emerging industries. Of the $750 million allotted for competitive grants, the Recovery Act designates $500 million for projects that prepare workers for careers in the energy efficiency and renewable energy industries described in Section 171(e)(1)(B) of the Workforce Investment Act (WIA). The Recovery Act further provided that in awarding grants for the remaining $250 million, projects that prepare workers for careers in the health care sector would receive priority. DOL intends to use a portion of the $250 million for providing technical assistance for this program of grants. DOL also intends to use a portion of these resources to promote the creation of a virtual tool that helps workers learn about and prepare for careers in health care. These efforts will help participants find and retain employment, while leveraging other Recovery Act investments intended to create jobs and promote economic growth.

The following sub-sections provide background information on the health care sector, as well as on the other sectors on which applicants could focus.

B. Health Care and Other High Growth and Emerging Industries

1. Health Care Sector

As many industries experience lay-offs and job losses, the health care industry remains a critical driver in regional economies across the nation. In March 2009, the U.S. Bureau of Labor Statistics (BLS) reported that the health care sector continued to grow, despite steep job losses in nearly all major industries. Hospitals, long-term care facilities, and other ambulatory care settings added 27,000 new jobs in February 2009, the same month when 681,000 jobs were eliminated nationwide.

Health care providers are large employers that contribute significantly to the strength of regional economies. The BLS projects that health care employers will generate 3 million new wage and salary jobs between 2006 and 2016, with the education and health services sector projected to grow by 18.8 percent, adding more jobs (nearly 5.5 million) than any other industry sector.

Employment growth in the health care sector will be driven by significant increases in demand for health care and assistance because of an aging population and longer life expectancies. In addition, projected retirements for current health care workers will necessitate a pipeline of skilled individuals ready to enter health care occupations.

The absence of qualified workers in this diverse sector threatens the quality and availability of medical care, and the economic stability and growth potential of local communities in rural, urban, and suburban areas. Moreover, the growing complexity of health care delivery, including changing technologies and introduction of advanced medical devices, will require both incumbent workers and new entrants to continuously upgrade their skills. Although job opportunities exist for workers without extensive specialized training, most health care occupations require training leading to a vocational license, certificate, or degree.

ETA will accept proposals targeting any of the industry's sub-sectors, and is particularly interested in receiving applications that focus on one or more of the following health care sub-sectors and occupational categories:

i. Nursing

Recent trends in the delivery of health care services increasingly rely on highly skilled nurses working with allied health professionals in supporting clinical roles. Nursing roles range from primary patient care to case management and directing complex health care systems.

Shortages of Registered Nurses (RNs), Licensed Practical Nurses (LPNs), Vocational Nurses, and Certified Nursing Assistants (CNAs) threaten the provision of quality care. The BLS projects that employment for RNs will grow faster than any other occupation through 2012. In response to the general increase in demand for health care services, employment of LPNs is expected to grow 14 percent, faster than the average for all occupations.

ETA is interested in projects that provide training and support career progression along the nursing career pathway, as well as short-term skills certification or credentialing that enables incumbent workers to advance along a career ladder/lattice in health care. These include licenses, certificates, and degrees from accredited nursing programs that lead to the Associate Degree of Nursing (ADN) or vocational licensure for LPNs, and positions as CNAs. ETA is also interested in academic strategies that help incumbent workers advance from an ADN to the bachelor's degree in nursing (BSN) since many RNs with an ADN find it beneficial to enter bachelor's programs to prepare for a broader scope of nursing practice.

Applicants that focus on nursing could foster transitions along articulated career pathways for graduates of education and training programs at a community college, vocational training program, or a Registered Apprenticeship program that help them qualify for entry-level and mid-level nursing positions such as a CNA, LPN, or RN.

ii. Allied Health

According to the Association of Schools of Allied Health Professions (ASAHP), the term allied health is used to identify a cluster of health professions that covers as many as 100 occupational titles, exclusive of physicians, nurses, and a handful of others. Acute workforce shortages and projected growth exist for allied health occupations, such as medical assistants, respiratory therapists, pharmacy technicians, diagnostic medical sonographers, paramedics, and radiological and other technicians. The BLS projects that by 2016, medical assistant occupations are expected to grow 35 percent, paramedic occupations are expected to grow by 19 percent, and radiological technicians by 15 percent. According to the Department of Health and Human Services (HHS), Health Resource and Services Administration, occupational growth for community health workers is also projected as communities seek to build effective linkages with the health care system to provide health education and information, advocate for underserved individuals to receive appropriate services, and build the capacity of the community in addressing health issues.

Particularly in hospitals and in medical laboratories away from patient care settings, ETA is interested in investments that provide talent development strategies that support recruitment, retention, and career pathways in related allied health occupations.

iii. Long-Term Care

Workers in Long-Term Care settings assist older individuals and others with disabilities and chronic diseases through employment as CNAs, home health specialists, and other direct care occupations. The demand for long-term health care services has begun to increase dramatically as regions across the country have started to experience significant demographic shifts. Currently, the American Health Care Association estimates that long-term care occupations represent 4.5 million workers. By 2010, BLS projects that this workforce will expand by 800,000 jobs for direct care workers alone in long-term care settings. In 2008, the Institute of Medicine of the National Academies (IOM) determined that between 2005 and 2030, the number of adults aged 65 and older is estimated to rise from 37,000,000 to over 70,000,000, almost doubling the overall size of the population of older adults in the United States. The IOM concluded that the health care workforce lacked the capacity, in both size and ability, to meet the mounting needs of the elderly.

ETA is interested in projects that provide training for and support educational paths to careers in long-term care occupations, which include CNAs, home health aides, home and personal care workers, direct support professionals and RNs working in long-term care settings.

iv. Health Information Technology

Health Information Technology (HIT) refers to the juncture of information management, medical practice, and the complex business of health care delivery. HIT leverages information management training and resources to improve quality and efficiency standards in the health care industry. According to HHS, Office of the National Coordinator for Health Information Technology (ONC), ensuring the secure use of personal health information will improve the coordination of care, as well as prevent medical errors through data sharing.

The transition from traditional, paper-based medical files to electronic health records (EHR) technologies will provide expanded career pathways in health information management and technology. HIT jobs will be created in hospitals, physicians' offices, home healthcare and outpatient clinics, and residential care facilities. Further, comprehensive reforms in health law and policy will require new and updated skill sets for a range of clinical occupations (including nursing and allied health professionals), medical record technicians, coders, health information technicians, and other health information technology professionals including but not limited to clinical informaticists. The Health Care Information and Management Systems Society estimates there are approximately 108,400 HIT jobs in hospital settings currently and expects workforce needs to require an additional 40,800 HIT occupations by 2012.

ETA is interested in projects that design state-of-the-art training and support progression in career pathways for the health information workforce using a variety of learning strategies for individuals who want to specialize in the management of health information, as well as workers who must use HIT to perform the duties of their jobs.

2. Other High Growth and Emerging Industries

ETA also seeks to promote broad-based economic recovery by supporting the workforce and training needs of workers and employers in other high growth and emerging industries. ETA recognizes that in some specific regions industries continue to grow, while in other regions industries have been negatively impacted by the economic downturn but are expected to experience job growth as the economy begins to recover. Further, some industries are being transformed by technology and innovation, requiring new skill sets for workers. Fields like information technology, advanced manufacturing, wireless and broadband deployment, transportation and warehousing, and biotechnology may be high growth and emerging industries in specific regional economies, offering jobs and solid career paths left vacant due to a lack of qualified workers. For example, in advanced manufacturing sectors, transformations in business processes and technologies are driving the need for workers to have increasingly complex skills and competencies provided through the use of effective training approaches, such as mobile skills training.

ETA is soliciting grant applications that address current and forecasted workforce shortages, and provide workers with paths to career enhancing opportunities in high growth, high demand, and economically vital sectors of the American economy. ETA will target education and skills development resources toward helping workers gain skills needed to build successful careers in these and other growing industries.

ETA encourages applicants to define local high growth or emerging industries in the context of their state or regional economy by showing how the industry aligns with and fits into their state or regional strategy. An industry targeted by applicants must meet the following criteria to be considered a high growth or emerging industry in a local area for the purposes of this SGA: (1) It is projected to add substantial numbers of new jobs to the economy; (2) it is being transformed by technology and innovation requiring new skill sets for workers; or (3) it is a new and emerging industry projected to grow. Applicants may draw from a variety of resources for supporting data that demonstrates that an industry is high growth or emerging, including: Traditional labor market information, such as projections; industry data from trade or industry associations, labor organizations, or direct information from the local employers or industry; information on the local and regional economy from economic development agencies; and other transactional data, such as job vacancies. Applications must include strong supporting evidence and data that are current, relevant, and specific to the local areas or communities where grant-funded training and placement activities will be conducted.

C. Working With Other Recovery Act Programs

The Recovery Act made funds available to a number of other Federal programs that will impact the creation and expansion of health care occupations and other high growth and emerging industries. DOL is partnering with other Federal agencies to support the creation of jobs by developing a pipeline of skilled workers in the health care industry and other high growth and emerging industries. Where possible, ETA encourages applicants to connect their workforce development strategies to other Recovery Act funded projects that create jobs or impact the skill requirements of existing jobs. ETA recommends that applicants review other parts of the Recovery Act. For example, there are specific Recovery Act activities related to health care through the Department of Education and HHS, Health Resource and Services Administration. For other high growth and emerging industries, it may be appropriate to review other Recovery Act programs from the Department of Energy, Department of Transportation, etc. For links to federal agency Recovery Act Web sites, please visit http://recovery.gov/?q=content/agencies.

I. Funding Opportunity Description

Grants under this SGA will fund projects that provide workers with training that will prepare them to enter and advance in the health care sector, as well as other high growth and emerging industries, as described in part B of the Background section of this SGA. Individuals eligible to receive training include unemployed workers, dislocated workers, and incumbent workers including low-wage workers. Within these categories, grantees may serve a wide range of individuals, such as individuals on public assistance, high school dropouts, individuals with disabilities, veterans, and individuals with Limited English Proficiency. A portion of the funds under this SGA will be reserved (as described in Section II, Award Information) for projects serving communities impacted by automotive-related restructuring.

Successful training programs funded through this SGA will prepare participants for employment within the health care sector or other high growth and emerging industries, and will: (1) Target skills and competencies demanded by the industries described in part B of the Background section of this SGA; (2) support career pathways, such as an articulated career ladder or lattice; (3) result in an employer- or industry-recognized certificate or degree (which can include a license, as well as a Registered Apprenticeship certificate or degree); (4) combine supportive services with training services to help participants overcome barriers to employment, as necessary; and (5) provide training services at times and locations that are easily accessible to targeted populations.

To ensure quality training within a limited timeframe, applicants are strongly encouraged to use existing curricula and strategies to deliver training. Where appropriate, applicants may modify existing curricula. Recognizing the long-term needs of workers, it is strongly recommended that training lead to portable industry-recognized certificates or degrees.

II. Award Information

A. Award Amount

Under this SGA, ETA intends to award approximately $220 million in grant funds. To prioritize health care projects, ETA expects to allot approximately $125 million of the designated funds for projects in the health care sector. However, the Department reserves the right to change this amount depending on the quantity and quality of applications submitted under this SGA. The remaining balance of funds will be allotted for projects in other high growth and emerging industries. ETA intends to fund 45-65 grants ranging from approximately $2 to $5 million. ETA does not expect to fund projects for less than $2 million. However, this does not preclude funding grants at a lower amount based on the type and the number of quality submissions. ETA will not fund projects for more than $5 million, and applications requesting more than $5 million will be considered non-responsive. Within the funding ranges specified above, applicants are encouraged to submit proposals for quality projects at whatever funding level is appropriate to the project.

Approximately $25 million of the total funds available through this Solicitation will be reserved for projects serving communities impacted by automotive-related restructuring, though the Department reserves the right to change this amount depending on the quantity and quality of applications submitted under this SGA. See Attachment I for a list of counties impacted by automotive-related restructuring. The Center for Automotive Research identified the attached list of 312 U.S. counties that either have an automotive assembly plant or parts manufacturer employing regional residents. Only communities that are included on The Center for Automotive Research list will qualify for this status.

B. Period of Performance

The period of grant performance will be up to 36 months from the date of execution of the grant documents. This performance period includes all necessary implementation and start-up activities; the completion of training activities and the award of employer- or industry-recognized certificates or degrees; and participant follow-up. The Department intends that all grantees implement the training and placement programs funded under this SGA as soon as possible. Further, applicants should plan to fully expend grant funds during the period of performance, while ensuring full transparency and accountability for all expenditures.

III. Eligibility Information

A. Eligible Applicants

Eligible applicants are public entities or private nonprofit entities. Applicants must be legal entities and may include local Workforce Investment Boards and their One Stop Systems, Tribal organizations, education and training providers, labor organizations, health care providers, and faith-based and community organizations. The applicant must be the fiscal agent for the grant. An organization may not submit multiple applications in response to this SGA. However, an organization that submits an application for this SGA is not precluded from participating as a partner in applications submitted by other applicants in response to this SGA.

B. Strategic Partnerships

To be eligible for funding under this SGA, applicants must demonstrate that the proposed project will be implemented by a robust strategic partnership.

i. Required Partners

The strategic partnership must include at least one entity from each of the following three categories:

• The public workforce investment system, such as local Workforce Investment Boards and their One Stop systems;

• Public and private employers, such as health care providers when appropriate, and industry-related organizations; and

• The education and training community, which includes the continuum of education from secondary schools to community and technical colleges, four-year colleges and universities, apprenticeship programs, technical and vocational training institutions, and other education and training entities.

By including all of these types of organizations in a comprehensive partnership, applicants can ensure they are maximizing available resources and organizational expertise for each project, and that individual participants within the project have all of the support they need to successfully complete training, overcome barriers to employment, and obtain jobs and advance along career ladders. These partners can contribute a wide array of knowledge and activities to each project, and must work together to ensure that they leverage each other's expertise and resources. The role of the workforce investment system must include identifying and referring candidates for training, and may include assessing potential participants, connecting and placing participants with employers that have existing job openings, and providing supportive services to help participants overcome barriers to training or employment. Employers and industry-related organizations, such as Federally Qualified Health Centers and other health care employers, should be actively engaged in the project and may contribute to many aspects of grant activities, such as defining the program strategy and goals, identifying necessary skills and competencies, providing resources to support training (equipment, instructors, funding, internships, or other work-based learning activities or situations, etc.), and, where appropriate, hiring qualified program participants. Education and training providers must partner with employer and/or industry-related organizations to ensure that education and training programs address the skills required for the targeted industries, lead to employer- or industry-recognized certificates or degrees, and ensure that the training strategies reflect the needs of both workers and employers.

ii. Other Partners

In addition to the required partners listed in Section III.B.i, applicants are strongly encouraged to include other partners that can provide resources or expertise to the project. These organizations could include, but are not limited to:

• Nonprofit organizations, such as community or faith-based organizations, that have direct access to the target populations;

• Labor organizations, including but not limited to labor unions and labor-management organizations that represent workers in the health care sector or other high growth and emerging industries;

• Organizations implementing projects funded by the Recovery Act that will create or support jobs in the health care sector or other high growth and emerging industries;

• National, State, and local foundations, which focus on assisting participants served through the project; and

• State and local social service agencies that provide supportive services to participants served through the project.

C. Cost Sharing

Cost sharing or matching funds are not required as a condition for application, but leveraged resources are strongly encouraged and may affect the applicant's score in section V.A.3 of the evaluation criteria.

D. Other Eligibility Requirements

1. Proposed Activities

The purpose of this SGA is to fund projects providing training, education, and job placement assistance to prepare workers to enter the health care sector and other high growth and emerging industries described in part B of the Background section of this SGA.

i. Characteristics of Training Activities

All projects must lead to employment for program participants, and must incorporate training activities that:

• Address skills and competencies demanded by the industries targeted through this SGA and described in part B of the Background section;

• Support participants' advancement along a defined career pathway, such as an articulated career ladder and/or career lattice, if such a pathway exists in the targeted industry or industries;

• Result in an employer- or industry-recognized certificate or degree during the period of performance. Certificates or degrees can include a license as well as a Registered Apprenticeship certificate or degree (see definition in Section VI.B.2.ii) that indicates a level of mastery and competence in a given field or function. The certificate or degree awarded to participants should be based on the type of training provided through the grant and the requirements of the targeted occupation, and should be selected based on consultations with employer and labor partners, as appropriate;

• Take place at times and locations that are convenient and easily accessible for the targeted populations;

• Integrate occupational training with basic skills training to ensure that participants have the foundational skills necessary to attain and retain employment; and

• Integrate training activities with supportive services to ensure that participants have the necessary support to overcome barriers to participate in training and employment.

Applicants may propose a wide range of activities in implementing projects that meet the requirements outlined above. When designing the proposed activities, DOL encourages applicants to use program models with previous success in serving the target populations, especially those with strong program evaluations showing positive impacts on participants. Promising models include the following:

• Strategies that integrate academic instruction with occupational skills training in a specific career field have shown promising employment and earnings outcomes for low-income young adults. Applicants who are proposing to serve low-income young adults and high school dropouts should consider program models that strongly link opportunities to improve basic literacy and mathematics skills and obtain a high school diploma or GED with work-based learning in the targeted industries.

• Providing on-the-job training with a specific employer who agrees to hire individuals upon successful completion of the training has been an effective way for some programs to place disadvantaged individuals into employment.

• Registered Apprenticeship, with the combination of on-the-job training, related technical instruction, a mentoring component and incremental wage increases, has been highly successful in training a range of participants including at-risk youth, veterans, older workers, and the unemployed.

ii. Allowable Activities

Proposed projects must provide direct training and/or education, placement, and related activities that prepare individuals for employment in health care and other industries. Direct training and/or education costs include, but are not limited to, the following types of costs: faculty/instructors, including salaries and fringe benefits; in-house training staff; support staff such as lab or teaching assistants; classroom space; and books, materials, and supplies used in the training course, including specialized equipment. As with all costs charged to the grant, the costs of equipment must meet the standards in the applicable Federal cost principles, including that the costs are reasonable and necessary to achieve grant outcomes. While grant funds may be used to purchase equipment that are used for training and education activities provided through the proposed project, grantees are encouraged to utilize leveraged resources to support these costs to maximize the use of their grant funds.

Allowable activities under this SGA include:

• Classroom occupational training;

• On-the-job training activities that lead to permanent employment;

• Development and implementation of Registered Apprenticeship and pre-apprenticeship programs;

• Contextualized learning;

• Internship programs;

• Customized training;

• Basic skills training, such as adult basic education, English as a Second Language (ESL), and job readiness training;

• Initial assessment of skill levels, aptitudes, abilities, competencies, and supportive service needs;

• Job search and placement assistance, and, where appropriate, career counseling;

• Case management services;

• Comprehensive retention strategies;

• Supportive services that will allow individuals to participate in the training provided through the grant; and

• Updating curriculum to support direct training provided through the grant. Some grants funded under this SGA may produce tangible products and deliverables, such as updates to existing curriculum and outreach materials. Curriculum development is only appropriate if this curriculum is used in direct training and/or education activities provided through this grant and is necessary to achieve the training and employment outcomes proposed for the grant. (See Section IV.E.4 for information regarding intellectual property rights.)

E. Other Grant Specifications

1. Participants Eligible To Receive Training

This SGA addresses the priorities of the Recovery Act by funding projects that provide education and training, job placement, and supportive services to unemployed workers, dislocated workers, and incumbent workers which include:

i. Unemployed workers (For the purposes of this SGA, ETA defines “unemployed individual” as an individual who is without a job and who wants and is available to work);

ii. Dislocated workers (For the purposes of this SGA, this term refers to individuals who were terminated or laid-off or have received a notice of termination or lay-off from employment; or were self-employed but are now unemployed);

iii. Incumbent workers who need training to secure full-time employment, advance in their careers, or retain their current occupations. This includes low-wage workers, workers who need to upgrade their skills to retain employment, and workers who are currently working part-time.

Within these categories, grantees may serve a wide range of individuals, such as individuals on public assistance, high school dropouts, individuals with disabilities, veterans, Indians and Native Americans, and individuals with Limited English Proficiency.

2. Veterans Priority

The Jobs for Veterans Act (Pub. L. 107-288) requires priority of service to veterans and spouses of certain veterans for the receipt of employment, training, and placement services in any job training program directly funded, in whole or in part, by DOL. The regulations implementing priority of service for veterans and eligible spouses in Department of Labor job training programs under the Jobs for Veterans Act are found at 20 CFR part 1010. In circumstances where a grant recipient must choose between two equally qualified candidates for training, one of whom is a veteran or eligible spouse, the Jobs for Veterans Act requires that the grant recipient give the veteran priority of service by admitting him or her into the program. To obtain priority of service a veteran must meet the program's eligibility requirements. Grantees must comply with DOL guidance on veterans' priority. Currently, ETA Training and Employment Guidance Letter (TEGL) No. 5-03 (September 16, 2003) provides general guidance on the scope of the Jobs for Veterans Act and its effect on current employment and training programs. TEGL No. 5-03, along with additional guidance, is available at the “Jobs for Veterans Priority of Service” Web site: http://www.doleta.gov/programs/vets.

3. Grantee Training

Grantees are required to participate in all ETA training activities related to orientation, financial management and reporting, performance reporting, product dissemination, and other technical assistance training as appropriate during the life of the grant. These trainings may occur via conference call, webinar, and in-person meetings. Applicants should include costs for two staff members to attend two trainings that are each two full days in Washington, DC during the grant's period of performance.

IV. Application and Submission Information

A. How To Obtain an Application Package

This SGA contains all of the information and links to forms needed to apply for grant funding.

B. Content and Form of Application Submission

The proposal will consist of three separate and distinct parts: (I) a cost proposal; (II) a technical proposal; and (III) attachments to the technical proposal. Applications that fail to adhere to the instructions in this section will be considered non-responsive and will not be considered. Please note that it is the applicant's responsibility to ensure that the funding amount requested is consistent across all parts and sub-parts of the application.

Part I. The Cost Proposal. The Cost Proposal must include the following items:

• The Standard Form (SF) 424, “Application for Federal Assistance” (available at http://www07.grants.gov/agencies/forms_repository_information.jsp and http://www.doleta.gov/grants/find_grants.cfm). The SF 424 must clearly identify the applicant and must be signed by an individual with authority to enter into a grant agreement. Upon confirmation of an award, the individual signing the SF 424 on behalf of the applicant shall be considered the authorized representative of the applicant. Applicants must supply their D-U-N-S® Number on the SF 424. All applicants for Federal grant and funding opportunities are required to have a D-U-N-S® (Data Universal Numbering System) Number. See Office of Management and Budget (OMB) Notice of Final Policy Issuance, 68 FR 38402, Jun. 27, 2003. The D-U-N-S® Number is a non-indicative, nine-digit number assigned to each business location in the D&B database having a unique, separate, and distinct operation, and is maintained solely by D&B. The D&B D-U-N-S® Number is used by industries and organizations around the world as a global standard for business identification and tracking. If you do not have a D-U-N-S® Number, you can get one for free through the SBS site: http://smallbusiness.dnb.com/webapp/wcs/stores/servlet/Glossary?fLink=glossary&footerflag=y&storeId=10001&indicator=7.

• The SF 424A Budget Information Form (available at http://www07.grants.gov/agencies/forms_repository_information.jsp and http://www.doleta.gov/grants/find_grants.cfm). In preparing the Budget Information Form, the applicant must provide a concise narrative explanation to support the budget request, explained in detail below.

• Budget Narrative: The budget narrative must provide a description of costs associated with each line item on the SF-424A. It should also include a description of leveraged resources provided to support grant activities. In addition, the applicant should address precisely how the administrative costs support the project goals. The entire Federal grant amount requested should be included on both the SF 424 and SF 424A (not just one year). No leveraged resources should be shown on the SF 424 and SF 424A.

Please note that applications that fail to provide an SF 424, SF 424A, a D-U-N-S® Number, and a budget narrative will be non-responsive.

• Applicants are also encouraged, but not required, to submit OMB Survey N. 1890-0014: Survey on Ensuring Equal Opportunity for Applicants, which can be found under the Grants.gov, Tips and Resources From Grantors, Department of Labor section at http://www07.grants.gov/applicants/tips_resources_from_grantors.jsp#13 (also referred to as Faith Based EEO Survey PDF Form).

Part II. The Technical Proposal. The Technical Proposal demonstrates the applicant's capability to implement the grant project in accordance with the provisions of this solicitation. The guidelines for the content of the Technical Proposal are provided in Part V.A of this SGA. The Technical Proposal is limited to 20 double-spaced single-sided pages with 12 point text font and 1 inch margins. Any materials beyond the 20-page limit will not be read. Applicants should number the Technical Proposal beginning with page number 1. Applications that do not include Part II, the Technical Proposal, will be non-responsive.

Part III. Attachments to the Technical Proposal. In addition to the 20-page Technical Proposal, the applicant must submit a letter or letters of commitment signed by all required partners (preferably one letter co-signed by all required partners) that describes the roles and responsibilities of each required partner. Applicants should not send letters of commitment separately to ETA because these letters will be tracked through a different system and will not be attached to the application for review. ETA does not encourage general letters of support submitted by organizations or individuals that are not partners in the proposed project and that do not directly identify the specific commitment or roles of the project partners. The applicant also must provide an Abstract, not to exceed one page, summarizing the proposed project, including applicant name; targeted industry; project title; identification of the community or communities to be served, including whether the community(ies) are located in urban, suburban, or rural areas; and the funding level requested. The abstract must also indicate whether one or more of the counties served by the proposed project appear on the attached list of counties impacted by automotive-related restructuring, which is included as Attachment I of this SGA. The applicant must indicate the total amount of grant funds that will be used for activities in those impacted counties.

These additional materials (commitment letters and one-page abstract) do not count against the 20-page limit for the Technical Proposal, but may not exceed 13 pages. Any additional materials beyond the 13-page limit will not be read.

Applications may be submitted electronically on Grants.gov or in hard copy by mail or hand delivery. These processes are described in further detail in Section IV.C. Applicants submitting proposals in hardcopy must submit an original signed application (including the SF 424) and one (1) “copy-ready” version free of bindings, staples or protruding tabs to ease in the reproduction of the proposal by DOL. Applicants submitting proposals in hardcopy are also required to provide an identical electronic copy of the proposal on compact disc (CD).

C. Submission Process, Date, Times, and Addresses

The closing date for receipt of applications under this announcement is October 5, 2009. Applications must be received at the address below no later than 4 p.m. Eastern Time. Applications sent by e-mail, telegram, or facsimile (FAX) will not be accepted. Applications that do not meet the conditions set forth in this notice will not be considered. No exceptions to the mailing and delivery requirements set forth in this notice will be granted.

Mailed applications must be addressed to the U.S. Department of Labor, Employment and Training Administration, Division of Federal Assistance, Attention: Donna Kelly, Grant Officer, Reference SGA/DFA, PY 09-01, 200 Constitution Avenue, NW., Room N4716, Washington, DC 20210. Applicants are advised that mail delivery in the Washington area may be delayed due to mail decontamination procedures. Hand-delivered proposals will be received at the above address. All overnight mail will be considered to be hand-delivered and must be received at the designated place by the specified closing date and time.

Applicants may apply online through Grants.gov (http://www.grants.gov); however, due to the expected increase in system activity resulting from the American Recovery and Reinvestment Act of 2009, applicants are encouraged to use an alternate method to submit grant applications during this heightened period of demand. While not mandatory, DOL encourages the submission of applications through professional overnight delivery service.

Applications that are submitted through Grants.gov must be successfully submitted at http://www.grants.gov no later than 4 p.m. Eastern Time on October 5, 2009, and then subsequently validated by Grants.gov. The submission and validation process is described in more detail below. The process can be complicated and time-consuming. Applicants are strongly advised to initiate the process as soon as possible and to plan for time to resolve technical problems if necessary.

The Department strongly recommends that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. The Department strongly recommends that applicants use the “Organization Registration Checklist” at http://www.grants.gov/assets/Organization_Steps_Complete_Registration.pdf to ensure the registration process is complete.

Within two business days of application submission, Grants.gov will send the applicant two email messages to provide the status of application progress through the system. The first email, almost immediate, will confirm receipt of the application by Grants.gov. The second email will indicate the application has either been successfully validated or has been rejected due to errors. Only applications that have been successfully submitted and successfully validated will be considered. It is the sole responsibility of the applicant to ensure a timely submission; therefore, sufficient time should be allotted for submission (two business days), and, if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues will prevent our ability to consider the application. ETA will attempt to open the document but will not take any additional measures in the event of issues with opening. In such cases, the non-conforming application will not be considered for funding.

Applicants are strongly advised to utilize the plethora of tools and documents, including FAQs, that are available on the “Applicant Resources” page at http://www.grants.gov/applicants/app_help_reso.jsp#faqs. To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or e-mail “support@grants.gov”.

Late Applications: For applications submitted on Grants.gov, only applications that have been successfully submitted no later than 4:00 p.m. Eastern Time on the closing date and then successfully validated will be considered. Applicants take a significant risk by waiting to the last day to submit via Grants.gov.

Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day prior to the date specified for receipt of applications. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

D. Intergovernmental Review

This funding opportunity is not subject to Executive Order 12372, “Intergovernmental Review of Federal Programs.”

E. Funding Restrictions

Determinations of allowable costs will be made in accordance with the applicable Federal cost principles. Disallowed costs are those charges to a grant that the grantor agency or its representative determines not to be allowed in accordance with the applicable Federal cost principles or other conditions contained in the grant.

Successful and unsuccessful applicants will not be entitled to reimbursement of pre-award costs.

1. Indirect Costs

As specified in OMB Circular Cost Principles, indirect costs are those that have been incurred for common or joint objectives and cannot be readily identified with a particular final cost objective. In order to use grant funds for indirect costs incurred the applicant must obtain an Indirect Cost Rate Agreement with its Federal cognizant agency either before or shortly after grant award.

2. Administrative Costs

Under this SGA, an entity that receives a grant to carry out a project or program may not use more than 10 percent of the amount of the grant to pay administrative costs associated with the program or project. Administrative costs could be direct or indirect costs, and are defined at 20 CFR 667.220. Administrative costs do not need to be identified separately from program costs on the SF 424A Budget Information Form. However, they must be discussed in the budget narrative and tracked through the grantee's accounting system. To claim any administrative costs that are also indirect costs, the applicant must obtain an Indirect Cost Rate Agreement from its Federal cognizant agency.

3. Salary and Bonus Limitations

Under Public Law 109-234 and Public Law 111-8, Section 111, none of the funds appropriated in Public Law 111-5 or prior Acts under the heading “Employment and Training” that are available for expenditure on or after June 15, 2006, shall be used by a recipient or sub-recipient of such funds to pay the salary and bonuses of an individual, either as direct costs or indirect costs, at a rate in excess of Executive Level II. These limitations also apply to grants funded under this SGA. The salary and bonus limitation does not apply to vendors providing goods and services as defined in OMB Circular A-133. See Training and Employment Guidance Letter number 5-06 for further clarification: http://wdr.doleta.gov/directives/corr_doc.cfm?DOCN=2262.

4. Intellectual Property Rights

The Federal Government reserves a paid-up, nonexclusive and irrevocable license to reproduce, publish or otherwise use, and to authorize others to use for Federal purposes: (i) the copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

If applicable, grantees must include the following language on all products developed in whole or in part with grant funds:

“This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes is permissible. All other uses require the prior authorization of the copyright owner.”

F. Use of Funds for Supportive Services

Supportive services for adults and dislocated workers are defined at WIA sections 101(46) and 134(e)(2) and (3). They include services such as transportation, child care, dependent care, and housing that are necessary to enable an individual to participate in activities funded through this grant. Further, supportive services can include needs-related payments (NRPs) that are necessary to enable individuals to participate in training activities funded through this grant. Accordingly, grantees may only use grant funds to provide supportive services to individuals who are participating in activities provided through the grant (or in the case of NRPs, participating in training), who are unable to obtain such services through other programs, and when such services are necessary to enable individuals to participate in activities. Grantees should ensure that their use of grant funds on supportive services is consistent with their established written policy regarding the provision of supportive services. Grantees may use no more than 10% of their grant funds on these services. However, to support the employment and training needs of the targeted populations, ETA encourages grantees to leverage other sources of funding for supportive services, including WIA Adult formula funds provided under the Recovery Act. Further, ETA encourages grantees to leverage earnings from part-time and full-time employment and unemployment compensation that will enable individuals to participate in training, in addition to utilizing grant funds for needs-related payments.

G. Other Submission Requirements

Withdrawal of Applications: Applications may be withdrawn by written notice to the Grant Officer at any time before an award is made.

V. Application Review Information

A. Evaluation Criteria

This section identifies and describes the criteria that will be used to evaluate the grant proposals. These criteria and point values are:

Criterion | Points
1. Statement of Need | 15
2. Project Management and Organizational Capacity | 15
3. Strategy and Project Work Plan | 50
4. Outcomes and Deliverables | 15
5. Suitability for Evaluation | 5

1. Statement of Need (15 points)

An applicant must fully demonstrate a clear and specific need for the Federal investment in the proposed activities. An applicant must submit data and provide evidence for proposed projects in the local areas or communities where participants will be trained and employed. Points for this section will be awarded based on a comprehensive demonstration of each of the following factors:

i. Overview of Current Economy and Workforce (15 points)

The applicant clearly and fully demonstrates the need for training and employment in the local area by describing the overall economy and workforce needs. Given the rapidly changing economic conditions that many States and regions are currently facing, applicants should use the most current and relevant sources of labor market data available. Points for this subsection will be awarded based on the following factors:

• The applicant fully describes the specific community(ies) that the project will serve, and demonstrates the workforce needs in the community, including the unemployment rate(s), poverty rate(s), the needs of diverse populations within the community, a discussion of any significant layoffs or industry restructuring in specific industries, as well as estimates of the number of individuals in the community who are: (a) unemployed workers; (b) dislocated workers; and (c) incumbent workers including low-wage workers.

• The applicant provides strong evidence of job seeker need for training by identifying one or more of the populations listed above (unemployed workers; dislocated workers; and/or incumbent workers) that the project will target, providing a general description of the current level of skills and educational attainment of those populations, and identifying the specific training needs of those populations.

• The applicant fully identifies other barriers to employment faced by the targeted populations, such as lack of child care or access to transportation.

Applicants may draw from a variety of resources for supporting data, which include but are not limited to: traditional labor market information, such as projections; industry data; data from trade associations or direct information from the regional industry; and information on the regional economy and other transactional data, such as job vacancies, that are available.

2. Project Management and Organizational Capacity (15 points)

An applicant must fully describe the capacity of the applicant and its required partners to effectively staff the proposed initiative. The application must also fully describe the applicant's fiscal, administrative, and performance management capacity to implement the key components of this project, and the track record of the applicant and its required partners in implementing projects of similar focus, size, and scope.

Scoring under this criterion will be based on the extent to which applicants provide evidence of the following:

i. Staff Capacity (5 points)

An applicant must provide strong evidence that the applicant and its required partners have the staff capacity to implement the proposed initiative. Discussion should include:

• The proposed staffing pattern for the project, including program management and administrative staff and program staff, which demonstrates that the role(s) and time commitment of the proposed staff are sufficient to ensure proper direction, management, implementation, and timely completion of each project.

• The applicant must demonstrate that the qualifications and level of experience of the proposed project manager are sufficient to ensure proper management of the project, where such a project manager has been identified. Where no project manager is identified, applicants should discuss the minimum qualifications and level of experience that will be required of the position.

ii. Fiscal, Administrative, and Performance Management Capacity (5 points)

The application must provide strong evidence that the applicant and its required partners have the fiscal, administrative, and performance management capacity to effectively administer this grant. Discussion should include:

• A full description of the applicant's capacity, including its systems, processes, and administrative controls that will enable it to comply with Federal rules and regulations related to the grant's fiscal and administrative requirements.

• A full description of the applicant's capacity, including its systems and processes that will support the grant's performance management requirements through effective tracking of performance outcomes. Applicants must include an explanation of the applicant's processes to collect and manage data in a way that allows for accurate and timely reporting of performance outcomes. Applicants may cite relationships with the public workforce system, as appropriate, to assist with performance reporting, and should describe access to specific data management software and/or resources for performance reporting.

iii. Applicant's Experience (5 points)

The applicant must demonstrate its experience leading or participating significantly in a comprehensive partnership, and the demonstrated experience of the applicant and its partners in implementing and operating training, education, and job placement initiatives of similar focus, size and scope. The discussion must include:

• Specific examples of the applicant's experience in leading or participating significantly in a partnership that included a wide range of stakeholders, including a description of the programmatic goals of the project, and a demonstration of the results achieved by that project.

• Specific examples of the applicant's track record administering Federal, State, and/or other grants, including the programmatic goals and results from these projects; and

• A description of the experience of the applicant and its required partners in Federal, State, and/or other projects providing education, training, and placement services to the specific populations noted in Section III.D. (unemployed workers; dislocated workers; incumbent workers including low-wage workers), including the programmatic goals and results of the projects.

3. Strategy and Project Work Plan (50 points)

The applicant must provide a complete, very clear explanation of its proposed strategy and its implementation plans. The applicant must describe the proposed workforce development strategy in full; explain how the proposed training addresses the applicant's statement of need; and demonstrate how the proposed project will expeditiously and effectively deliver training. ETA is interested in applicants describing any evidence-based research that they considered in designing the strategy. The applicant must present a comprehensive work plan for the project, following the format provided later in this section. Points for this criterion will be awarded for the following factors:

i. Addressing Conditions Described in the Statement of Need, and Targeted Industries and Occupations (10 points)

• The applicant summarizes the proposed strategy.

• The applicant explains how the proposed project comprehensively addresses the needs and challenges of the targeted populations laid out in the Statement of Need.

• The applicant provides a complete description of the targeted industries and occupations within those industries that the proposed project will focus on, including: the specific industry(ies) targeted by the project, and an explanation of how the targeted industry(ies) meet the requirements identified in part B of the Background section of this SGA; the specific occupation in the targeted industries for which participants will be trained, including the work performed by that occupation and its major tasks; and the specific knowledge, skills, and/or abilities required by the occupation.

• The applicant fully describes the employment needs of the targeted industries and occupations in the designated community, including: total current and projected employment in the industry; total current and projected employment in the targeted occupations; and the current hiring needs of specific employers and how job seekers served through the project will be placed in those jobs.

ii. Roles and Level of Commitment of Project Partners (15 points)

Scoring on this section will be based on the extent to which the applicant fully demonstrates the breadth and depth of their partners' commitment to the proposed project, by addressing the following factors:

• The applicant fully describes the specific roles of each of the project partners in the community, including training, supportive services, expertise, and/or other activities that partners will contribute to the project.

• The applicant demonstrates a strong partnership by providing a letter or letters of commitment signed by all required partners (preferably one letter co-signed by all required partners) that describes the roles, responsibilities, and resources committed by each partner. (See Section IV.B for instructions on submitting letters of commitment).

• The applicant clearly and fully describes any funds and other resources that will be leveraged to support grant activities and how these funds and other resources will be used to contribute to the proposed outcomes for the project, including any leveraged resources related to the provision of supportive services for program participants. This includes funds and other resources leveraged from businesses, labor organizations, education and training providers, and/or Federal, state, and local government programs. Applicants will be scored based on the extent to which they fully demonstrate the resources provided, including the type(s) of leveraged resources provided, the strength of commitment to provide these resources (such as in commitment letters), the breadth and depth of the resources provided, and how well these resources support the proposed grant activities.

iii. Proposed Recruitment, Training, Placement, and Retention Strategies (10 points)

• Recruitment: The applicant must provide a comprehensive outreach and recruitment strategy that is inclusive of diverse populations as defined in the statement of need, and that defines a clear process for finding and referring workers to the training programs. The applicant must clearly identify the populations that will be targeted by the project, and explain how the proposed strategy will enable the project to effectively recruit those populations.

• Training: DOL encourages applicants to base their training strategies on program models that have shown promising outcomes for serving the populations targeted through this SGA. The applicant must provide a detailed explanation of the proposed training activities that describes how the project will comprehensively address the training needs of the targeted populations, including a discussion of how the design of the training activities will account for the current skill and education level, age, language barriers, or level of work experience of the targeted populations. The applicant must also describe how the project will address barriers to employment by combining training services with supportive services, such as child care or transportation, as appropriate for each targeted population. The applicant must demonstrate that the project will place participants on a career pathway; that training will focus on the specific industries and occupations it has proposed to target and focuses on skills and competencies demanded by the selected industries and occupations; that the project will integrate basic skills training where appropriate; and that the training will lead to an appropriate employer- or industry-recognized certificate or degree (which can include a license, as well as a Registered Apprenticeship certificate or degree) and to employment, and take place at times and locations that are convenient and easily accessible for the target populations.

• Placement: The applicant must provide a clear strategy for placing individuals into employment. The applicant must describe the methods for engaging employers, identifying specific job needs, and referring participants to employers. Wherever possible, the applicant should identify specific employers that indicate plans to hire project participants that complete training. This strategy includes moving incumbent workers along career pathways.

• Retention: The applicant must provide a clear strategy for job retention. This should include strategies for engaging employers, as well as for identifying the barriers to retention that participants face after placement and for providing them with supportive services to address these barriers.

iv. Project Work Plan (15 points)

An applicant must provide a comprehensive project work plan. Factors considered in evaluating the project work plan will include: (1) The presentation of a coherent plan that demonstrates the applicant's complete understanding of all the activities, responsibilities, and costs required to implement each phase of the project and achieve projected outcomes; (2) the demonstrated feasibility and reasonableness of the timeline for accomplishing all necessary implementation activities, including the ability to expeditiously begin training; and (3) the extent to which the budget aligns with the proposed work plan and is justified with respect to the adequacy and reasonableness of resources requested. Applicants must present this work plan in a table that includes the following categories:

• Project Phase: Lay out the timeline in five phases—Startup, Recruitment, Training, Placement, and Retention.

• Activities: Identify the major activities required to implement each phase of the project. For each activity, include the following information: (a) Start Date; (b) End Date; (c) Project partner(s) that will be primarily responsible for performing each activity; (d) Key tasks associated with each activity; (e) At key project milestones, list the target dates and associated outcomes projected for recruitment, training, placement, and retention activities; and (f) As accurately as possible, list the sub-total budget dollar amount associated with each activity.

4. Outcomes and Deliverables (15 points)

An applicant must demonstrate a results-oriented approach to managing and operating its project by providing projections for all applicable outcome categories relevant to measuring the success or impact of the project, describing the products and deliverables that will be produced as a result of the grant activities, and fully demonstrating the appropriateness and feasibility of achieving these results. The applicant must include projected outcomes, which will be used as goals for the grant. The applicant must comprehensively address each of the areas outlined below.

i. Projected Performance Outcomes (7 points)

The applicant must provide projections and track outcomes for each of the following outcome categories for all participants served with grant funds:

• Total participants served;

• Total number of participants beginning education/training activities;

• Total number of participants completing education/training activities;

• Total number of participants that complete education/training activities that receive a degree/certificate;

• Total number of participants that complete education/training activities that are placed into unsubsidized employment;

• Total number of participants that complete education/training activities that are placed into training-related unsubsidized employment; and

• Total number of participants placed in unsubsidized employment who retain an employed status in the first and second quarters following initial placement.

An applicant will need to be prepared to collect participant-level data on individuals who receive training and other services provided through the grant. These data should be the basis for reporting against the outcomes listed above, and may be required for reporting on other employment-related outcomes in the future. ETA will provide appropriate technical assistance to the grantees in collecting these data, including the development of a participant tracking system for the grantees. In some cases, the data requested below may require appropriate partnerships with state and local workforce investment system entities.

An applicant must be prepared to collect and report participant-level data from the following categories:

• Demographic and socioeconomic characteristics

• Employment history

• Services provided

• Outcomes achieved

An applicant must describe their capacity to collect both participant-level data and aggregate outcomes.

ii. Appropriateness and Feasibility, Degrees or Certificates Resulting From Training, and Deliverables (8 points)

• The applicant must fully demonstrate the appropriateness and feasibility of its projections of the project outcomes by addressing three factors: (1) the extent to which the expected project outcomes are realistic and consistent with the objectives of the project and the needs of the community; (2) the ability of the applicant to achieve the stated outcomes and report results within the timeframe of the grant; and (3) the appropriateness of the outcomes with respect to the requested level of funding.

• Project activities must lead to an employer- or industry-recognized certificate or degree (which can include a license, as well as a Registered Apprenticeship certificate or degree), and must identify the degree or certificate that participants will earn as a result of the proposed training, and the employer-, industry-, or State-defined standards associated with the degree or certificate. If the degree or certificate targeted by the training project is performance-based, applicants should either: (a) Demonstrate employer engagement in the curriculum development process, or (b) demonstrate that the degree or certificate will translate into concrete job opportunities with an employer.

• If applicable, the applicant must provide a comprehensive list of expected deliverables consistent with the project work plan that includes a brief description of the deliverable (such as updated curriculum and outreach materials), the anticipated completion date, and an estimated timeframe and method for electronic delivery to ETA. Electronic delivery may include email for smaller documents, DVDs or other electronic media for transmission of larger files.

5. Suitability for Evaluation (5 points)

Under this Solicitation, DOL seeks to support programs that will provide training that improves participants' employment outcomes. The Department is committed to evaluating program results to assess whether programs meet this goal and which models are most effective, providing a basis for future program improvements and funding decisions. DOL intends to select some portion of grantees to participate in a rigorous evaluation. This section asks for evidence that applicants will be able to participate productively in an evaluation. To receive points under this section, applicants must describe their plans for meeting the following criteria. Specifically, the project must:

• Explain a recruitment plan that could yield a large number of qualified applicants for the program, and potentially more applicants than the number of participant slots available;

• Be able to collect participant-level information on individuals who apply to participate in the program;

• Have project retention strategies to minimize client attrition and help researchers track those who leave the program before completion;

• Work collaboratively with an outside evaluator selected by DOL;

• Be willing to work with academics who are independent researchers qualified to conduct rigorous research; and

• Provide additional information about why funding this proposal will enhance knowledge about effective programs in a way that has the potential to benefit individuals and communities not directly served by the program.

B. Review and Selection Process

Applications for grants under this solicitation will be accepted after the publication of this announcement and until the closing date. A technical review panel will carefully evaluate applications against the selection criteria. These criteria are based on the policy goals, priorities, and emphases set forth in this SGA. Up to 100 points may be awarded to an application, depending on the quality of the responses to the required information described in Section V.A. The ranked scores will serve as the primary basis for selection of applications for funding, in conjunction with other factors such as urban, rural, and geographic balance; representation among health care and other high growth and emerging industries targeted through this SGA; representation among communities impacted by automotive industry restructuring; the availability of funds; and which proposals are most advantageous to the government. The panel results are advisory in nature and not binding on the Grant Officer. The Grant Officer may consider any information that comes to his/her attention. The government may elect to award the grant(s) with or without discussions with the applicant. Should a grant be awarded without discussions, the award will be based on the applicant's signature on the SF 424, which constitutes a binding offer by the applicant including electronic signature via E-Authentication on http://www.grants.gov.

VI. Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions:

i. Non-Profit Organizations—OMB Circulars A-122 (Cost Principles) and 29 CFR part 95 (Administrative Requirements).

ii. Educational Institutions—OMB Circulars A-21 (Cost Principles) and 29 CFR part 95 (Administrative Requirements).

iii. State and Local Governments—OMB Circulars A-87 (Cost Principles) and 29 CFR part 97 (Administrative Requirements).

iv. Profit Making Commercial Firms—Federal Acquisition Regulation (FAR)—48 CFR part 31 (Cost Principles), and 29 CFR part 95 (Administrative Requirements).

v. All entities must comply with 29 CFR parts 93 (New Restrictions on Lobbying) and 98 (Governmentwide Debarment and Suspension), and, where applicable, 29 CFR parts 96 and 99 (Audit Requirements).

vi. 29 CFR part 2, subpart D—Equal Treatment in Department of Labor Programs for Religious Organizations, Protection of Religious Liberty of Department of Labor Social Service Providers and Beneficiaries.

vii. 29 CFR part 31—Nondiscrimination in Federally Assisted Programs of the Department of Labor—Effectuation of Title VI of the Civil Rights Act of 1964.

viii. 29 CFR part 32—Nondiscrimination on the Basis of Handicap in Programs and Activities Receiving or Benefiting from Federal Financial Assistance.

ix. 29 CFR part 33—Enforcement of Nondiscrimination on the Basis of Handicap in Programs or Activities Conducted by the Department of Labor.

x. 29 CFR part 35—Nondiscrimination on the Basis of Age in Programs or Activities Receiving Federal Financial Assistance from the Department of Labor.

xi. 29 CFR part 36—Nondiscrimination on the Basis of Sex in Education Programs or Activities Receiving Federal Financial Assistance.

The following administrative standards and provisions may be applicable:

i. The American Recovery and Reinvestment Act of 2009, Public Law No. 111-5, 123 Stat. 115, Division A, Title VIII (February 17, 2009).

ii. The Workforce Investment Act of 1998, Public Law No. 105-220, 112 Stat. 939 (codified as amended at 29 U.S.C. 2801 et seq.) and 20 CFR part 667 (General Fiscal and Administrative Rules).

iii. 29 CFR part 29 and 30—Apprenticeship and Equal Employment Opportunity in Apprenticeship and Training; and

iv. 29 CFR part 37—Implementation of the Nondiscrimination and Equal Opportunity Provisions of the Workforce Investment Act of 1998. The Department notes that the Religious Freedom Restoration Act (RFRA), 42 U.S.C. sec. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

vi. Under WIA Section 181(a)(4), health and safety standards established under Federal and State law otherwise applicable to working conditions of employees are equally applicable to working conditions of participants engaged in training and other activities. Applicants that are awarded grants through this SGA are reminded that these health and safety standards apply to participants in these grants.

In accordance with Section 18 of the Lobbying Disclosure Act of 1995 (Pub. L. 104-65) (2 U.S.C. 1611) non-profit entities incorporated under Internal Revenue Service Code section 501(c)(4) that engage in lobbying activities are not eligible to receive Federal funds and grants.

Except as specifically provided in this SGA, DOL's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the DOL's award does not provide the justification or basis to sole source the procurement, i.e., avoid competition, unless the activity is regarded as the primary work of an official partner to the application.

2. Special Program Requirements

i. Evaluation

To measure the impact of grants funded under this SGA, ETA intends to fund one or more independent evaluations, which could include a random assignment evaluation. By accepting funding, grantees must agree to participate in such an evaluation, should their site(s) be selected to participate. Grantees must agree to make records on participants, employers, and funding available and to provide access to program personnel and participants, as specified by the evaluator(s) under the direction of ETA, including after the expiration date of the grant.

ii. Definition of Certificates

A certificate is awarded in recognition of an individual's attainment of measurable technical or occupational skills necessary to gain employment or advance within an occupation. These technical or occupational skills are based on standards developed or endorsed by employers. Certificates awarded by workforce investment boards are not included in this definition. Work readiness certificates are also not included in this definition. A certificate is awarded in recognition of an individual's attainment of technical or occupational skills by:

• A state educational agency or a state agency responsible for administering vocational and technical education within a state;

• An institution of higher education described in Section 102 of the Higher Education Act (20 USC 1002) that is qualified to participate in the student financial assistance programs authorized by Title IV of that Act. This includes community colleges, proprietary schools, and all other institutions of higher education that are eligible to participate in Federal student financial aid programs;

• A professional, industry, or employer organization (e.g., National Institute for Automotive Service Excellence certification, National Institute for Metalworking Skills, Inc., Machining Level I credential) or a product manufacturer or developer (e.g., Microsoft Certified Database Administrator, Certified Novell Engineer, Sun Certified Java Programmer) using a valid and reliable assessment of an individual's knowledge, skills, and abilities;

• A Registered Apprenticeship program;

• A public regulatory agency, upon an individual's fulfillment of educational, work experience, or skill requirements that are legally necessary for an individual to use an occupational or professional title or to practice an occupation or profession (e.g., FAA aviation mechanic certification, state certified asbestos inspector);

• A program that has been approved by the Department of Veterans Affairs to offer education benefits to veterans and other eligible persons;

• Job Corps centers that issue certificates; or

• Institutions of higher education which are formally controlled, or have been formally sanctioned, or chartered, by the governing body of an Indian tribe or tribes.

iii. Definitions of Populations and Other Key Terms

• Veterans: For the purposes of this solicitation, ETA follows the WIA definition of veteran under 29 U.S.C. § 2801(49)(A), which defines the term “veteran” as “an individual who served in the active military, naval, or air service, and who was discharged or released from such service under conditions other than dishonorable.” Active military service includes full-time duty (other than full-time duty for training purposes) in Reserve components ordered to active duty, or in National Guard units called to Federal Service by the President.

3. American Recovery and Reinvestment Act of 2009 (Pub. L. 111-5) Provisions

Prospective applicants are advised that, if they receive an award, they must comply with all requirements of the American Recovery and Reinvestment Act of 2009 [Pub. L. 111-5]. Applicants are advised to review the Act and implementing OMB guidance in the development of their proposals. Requirements include, but are not limited to:

• Adherence to all grant clauses and conditions as they relate to Recovery Act activity.

• Prohibition on expenditure of funds for activities at any casino or other gambling establishment, aquarium, zoo, golf course or swimming pool.

• Compliance with the requirements to obtain a D-U-N-S® Number and register with the Central Contractor Registry (CCR). ETA will issue additional guidance related to this requirement shortly.

• Submission of required reports in accordance with Section 1512 of the Recovery Act. These reports will be due quarterly within 10 days of the end of the reporting period and are in addition to the ETA required reports addressed in Section VI.C of this SGA. ETA will issue additional guidance related to these reports and their submission requirements shortly.

Implementing OMB guidance may be found at http://www.recovery.gov.

C. Reporting

Quarterly financial reports, quarterly progress reports, and MIS data will be submitted by the grantee electronically. The grantee is required to provide the reports and documents listed below:

1. Quarterly Financial Reports

A Quarterly Financial Status Report (ETA 9130) is required until such time as all funds have been expended or the grant period has expired. Quarterly reports are due 45 days after the end of each calendar year quarter. Grantees must use DOL's On-Line Electronic Reporting System and information and instructions will be provided to grantees.

2. Quarterly Performance Reports

The grantee must submit a quarterly progress report within 45 days after the end of each calendar year quarter. In order to submit these quarterly reports, the grantee will be expected to track participant-level data on the individuals who are involved in training and other services provided through the grant and report on participant status in a variety of fields and outcome categories, as well as provide narrative information on the status of the grant. The last quarterly progress report that grantees submit will serve as the grant's Final Performance Report. This report should provide both quarterly and cumulative information on the grant's activities. It must summarize project activities, employment outcomes and other deliverables, and related results of the project, and should thoroughly document the training or labor market information approaches utilized by the grantee. DOL will provide grantees with formal guidance about the data and other information that is required to be collected and reported on either a regular basis or special request basis. Grantees must agree to meet DOL reporting requirements.

3. Record Retention

Applicants must be prepared to follow Federal guidelines on record retention, which require grantees to maintain all records pertaining to grant activities for a period of not less than three years from the time of final grant close-out.

VII. Agency Contacts

For further information regarding this SGA, please contact Ariam Ferro, Grants Management Specialist, Division of Federal Assistance, at (202) 693-3968 (This is not a toll-free number). Applicants should e-mail all technical questions to Ferro.Ariam@dol.gov and must specifically reference SGA/DFA PY 09-01, and along with question(s), include a contact name, fax and phone number. This announcement is being made available on the ETA Web site at http://www.doleta.gov/grants and at http://www.grants.gov.

VIII. Additional Resources of Interest to Applicants

A. Other Web-Based Resources

DOL maintains a number of web-based resources that may be of assistance to applicants. For example, America's Service Locator (http://www.servicelocator.org) provides a directory of our nation's One Stop Career Centers.

B. Industry Competency Models

ETA supports an Industry Competency Model Initiative to promote an understanding of the skill sets and competencies that are essential to an educated and skilled workforce. A competency model is a collection of competencies that, taken together, define successful performance in a particular work setting. Competency models serve as a starting point for the design and implementation of workforce and talent development programs. To learn about the industry-validated models visit the Competency Model Clearinghouse (CMC) at http://www.careeronestop.org/CompetencyModel. The CMC site also provides tools to build or customize industry models, as well as tools to build career ladders and career lattices.

C. Promising Training Approaches

ETA encourages applicants to research promising training approaches in order to inform their proposals. The following list of Web sites provides a starting place for this research, but by no means should be considered a complete list:

• ETA's home site (http://www.doleta.gov) and the ETA Research Publication Database (http://wdr.doleta.gov/research/keyword.cfm)

• ETA's knowledge sharing site (http://www.workforce3one.org), including the “workforce solutions” section that contains over 6,000 additional resources applicants may find valuable in developing workforce strategies and solutions

• The National Governors Association Center for Best Practices (http://www.nga.org)

• The National Association of State Workforce Agencies (http://www.workforceatm.org)

• The National Association of Workforce Boards (http://www.nawb.org)

IX. Other Information

OMB Information Collection No. 1225-0086

Expires September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Department of Labor, in the Office of Management and Budget, Room 10235, Washington, DC 20503. PLEASE DO NOT RETURN THE COMPLETED APPLICATION TO THE OMB. SEND IT TO THE SPONSORING AGENCY AS SPECIFIED IN THIS SOLICITATION.

This information is being collected for the purpose of awarding a grant. The information collected through this SGA will be used by DOL to ensure that grants are awarded to the applicant best suited to perform the functions of the grant. Submission of this information is required in order for the applicant to be considered for award of this grant. Unless otherwise specifically noted in this announcement, information submitted in the respondent's application is not considered to be confidential.

Signed at Washington, DC, this 17th day of July, 2009.
Donna Kelly,
Grant Officer, Employment and Training Administration.

Attachment I—Counties Impacted by Automotive-Related Restructuring
FIPS | County name | State
1013 | Butler | AL.
1021 | Chilton | AL.
1083 | Limestone | AL.
1085 | Lowndes | AL.
1089 | Madison | AL.
1095 | Marshall | AL.
1101 | Montgomery | AL.
1121 | Talladega | AL.
1125 | Tuscaloosa | AL.
5023 | Cleburne | AR.
5041 | Desha | AR.
5055 | Greene | AR.
5083 | Logan | AR.
6001 | Alameda | CA.
6037 | Los Angeles | CA.
10003 | New Castle | DE.
13089 | DeKalb | GA.
13121 | Fulton | GA.
13139 | Hall | GA.
13143 | Haralson | GA.
13167 | Johnson | GA.
13285 | Troup | GA.
19029 | Cass | IA.
19037 | Chickasaw | IA.
19071 | Fremont | IA.
19089 | Howard | IA.
19095 | Iowa | IA.
19115 | Louisa | IA.
19149 | Plymouth | IA.
19157 | Poweshiek | IA.
19175 | Union | IA.
19197 | Wright | IA.
17007 | Boone | IL.
17025 | Clay | IL.
17031 | Cook | IL.
17047 | Edwards | IL.
17067 | Hancock | IL.
17121 | Marion | IL.
17113 | McLean | IL.
17155 | Putnam | IL.
17187 | Warren | IL.
17189 | Washington | IL.
17191 | Wayne | IL.
18001 | Adams | IN.
18003 | Allen | IN.
18005 | Bartholomew | IN.
18009 | Blackford | IN.
18015 | Carroll | IN.
18017 | Cass | IN.
18025 | Crawford | IN.
18033 | De Kalb | IN.
18031 | Decatur | IN.
18035 | Delaware | IN.
18037 | Dubois | IN.
18039 | Elkhart | IN.
18041 | Fayette | IN.
18045 | Fountain | IN.
18047 | Franklin | IN.
18051 | Gibson | IN.
18053 | Grant | IN.
18059 | Hancock | IN.
18061 | Harrison | IN.
18065 | Henry | IN.
18067 | Howard | IN.
18071 | Jackson | IN.
18075 | Jay | IN.
18077 | Jefferson | IN.
18081 | Johnson | IN.
18087 | LaGrange | IN.
18093 | Lawrence | IN.
18097 | Marion | IN.
18103 | Miami | IN.
18107 | Montgomery | IN.
18113 | Noble | IN.
18123 | Perry | IN.
18133 | Putnam | IN.
18135 | Randolph | IN.
18143 | Scott | IN.
18147 | Spencer | IN.
18141 | St. Joseph | IN.
18149 | Starke | IN.
18151 | Steuben | IN.
18153 | Sullivan | IN.
18157 | Tippecanoe | IN.
18159 | Tipton | IN.
18175 | Washington | IN.
18179 | Wells | IN.
18183 | Whitley | IN.
20001 | Allen | KS.
20209 | Wyandotte | KS.
21003 | Allen | KY.
21009 | Barren | KY.
21017 | Bourbon | KY.
21023 | Bracken | KY.
21031 | Butler | KY.
21033 | Caldwell | KY.
21041 | Carroll | KY.
21043 | Carter | KY.
21055 | Crittenden | KY.
21057 | Cumberland | KY.
21069 | Fleming | KY.
21073 | Franklin | KY.
21075 | Fulton | KY.
21077 | Gallatin | KY.
21081 | Grant | KY.
21093 | Hardin | KY.
21099 | Hart | KY.
21101 | Henderson | KY.
21103 | Henry | KY.
21107 | Hopkins | KY.
21111 | Jefferson | KY.
21113 | Jessamine | KY.
21121 | Knox | KY.
21123 | Larue | KY.
21137 | Lincoln | KY.
21151 | Madison | KY.
21155 | Marion | KY.
21167 | Mercer | KY.
21169 | Metcalfe | KY.
21173 | Montgomery | KY.
21179 | Nelson | KY.
21183 | Ohio | KY.
21191 | Pendleton | KY.
21199 | Pulaski | KY.
21207 | Russell | KY.
21209 | Scott | KY.
21211 | Shelby | KY.
21213 | Simpson | KY.
21221 | Trigg | KY.
21227 | Warren | KY.
21229 | Washington | KY.
22017 | Caddo | LA.
24510 | Baltimore (city) | MD.
24043 | Washington | MD.
26009 | Antrim | MI.
26017 | Bay | MI.
26025 | Calhoun | MI.
26045 | Eaton | MI.
26049 | Genesee | MI.
26059 | Hillsdale | MI.
26063 | Huron | MI.
26065 | Ingham | MI.
26067 | Ionia | MI.
26069 | Iosco | MI.
26075 | Jackson | MI.
26079 | Kalkaska | MI.
26081 | Kent | MI.
26087 | Lapeer | MI.
26091 | Lenawee | MI.
26093 | Livingston | MI.
26099 | Macomb | MI.
26107 | Mecosta | MI.
26111 | Midland | MI.
26113 | Missaukee | MI.
26115 | Monroe | MI.
26125 | Oakland | MI.
26127 | Oceana | MI.
26133 | Osceola | MI.
26135 | Oscoda | MI.
26139 | Ottawa | MI.
26143 | Roscommon | MI.
26145 | Saginaw | MI.
26147 | St. Clair | MI.
26149 | St. Joseph | MI.
26157 | Tuscola | MI.
26159 | Van Buren | MI.
26161 | Washtenaw | MI.
26163 | Wayne | MI.
26165 | Wexford | MI.
27029 | Clearwater | MN.
27123 | Ramsey | MN.
29047 | Clay | MO.
29061 | Daviess | MO.
29079 | Grundy | MO.
29105 | Laclede | MO.
29113 | Lincoln | MO.
29147 | Nodaway | MO.
29175 | Randolph | MO.
29183 | St. Charles | MO.
29189 | St. Louis | MO.
29229 | Wright | MO.
28009 | Benton | MS.
28011 | Bolivar | MS.
28051 | Holmes | MS.
28089 | Madison | MS.
28119 | Quitman | MS.
28129 | Smith | MS.
28145 | Union | MS.
28161 | Yalobusha | MS.
37063 | Durham | NC.
37071 | Gaston | NC.
37089 | Henderson | NC.
37145 | Person | NC.
37165 | Scotland | NC.
38051 | McIntosh | ND.
31019 | Buffalo | NE.
31047 | Dawson | NE.
31051 | Dixon | NE.
31141 | Platte | NE.
31159 | Seward | NE.
34023 | Middlesex | NJ.
34039 | Union | NJ.
36029 | Erie | NY.
36063 | Niagara | NY.
36067 | Onondaga | NY.
36089 | St. Lawrence | NY.
39001 | Adams | OH.
39003 | Allen | OH.
39011 | Auglaize | OH.
39019 | Carroll | OH.
39021 | Champaign | OH.
39025 | Clermont | OH.
39027 | Clinton | OH.
39033 | Crawford | OH.
39035 | Cuyahoga | OH.
39039 | Defiance | OH.
39043 | Erie | OH.
39051 | Fulton | OH.
39061 | Hamilton | OH.
39063 | Hancock | OH.
39065 | Hardin | OH.
39069 | Henry | OH.
39071 | Highland | OH.
39077 | Huron | OH.
39079 | Jackson | OH.
39083 | Knox | OH.
39091 | Logan | OH.
39093 | Lorain | OH.
39095 | Lucas | OH.
39097 | Madison | OH.
39113 | Montgomery | OH.
39117 | Morrow | OH.
39121 | Noble | OH.
39125 | Paulding | OH.
39131 | Pike | OH.
39135 | Preble | OH.
39137 | Putnam | OH.
39139 | Richland | OH.
39141 | Ross | OH.
39143 | Sandusky | OH.
39147 | Seneca | OH.
39149 | Shelby | OH.
39153 | Summit | OH.
39155 | Trumbull | OH.
39159 | Union | OH.
39161 | Van Wert | OH.
39169 | Wayne | OH.
39171 | Williams | OH.
39173 | Wood | OH.
39175 | Wyandot | OH.
40095 | Marshall | OK.
40109 | Oklahoma | OK.
42003 | Allegheny | PA.
42117 | Tioga | PA.
45007 | Anderson | SC.
45019 | Charleston | SC.
45021 | Cherokee | SC.
45035 | Dorchester | SC.
45067 | Marion | SC.
45083 | Spartanburg | SC.
47001 | Anderson | TN.
47003 | Bedford | TN.
47007 | Bledsoe | TN.
47009 | Blount | TN.
47015 | Cannon | TN.
47031 | Coffee | TN.
47041 | DeKalb | TN.
47045 | Dyer | TN.
47051 | Franklin | TN.
47053 | Gibson | TN.
47055 | Giles | TN.
47061 | Grundy | TN.
47063 | Hamblen | TN.
47065 | Hamilton | TN.
47069 | Hardeman | TN.
47073 | Hawkins | TN.
47077 | Henderson | TN.
47079 | Henry | TN.
47087 | Jackson | TN.
47097 | Lauderdale | TN.
47099 | Lawrence | TN.
47105 | Loudon | TN.
47113 | Madison | TN.
47117 | Marshall | TN.
47119 | Maury | TN.
47107 | McMinn | TN.
47109 | McNairy | TN.
47121 | Meigs | TN.
47123 | Monroe | TN.
47131 | Obion | TN.
47133 | Overton | TN.
47135 | Perry | TN.
47141 | Putnam | TN.
47143 | Rhea | TN.
47147 | Robertson | TN.
47149 | Rutherford | TN.
47151 | Scott | TN.
47159 | Smith | TN.
47177 | Warren | TN.
47185 | White | TN.
48029 | Bexar | TX.
48439 | Tarrant | TX.
49003 | Box Elder | UT.
51023 | Botetourt | VA.
51710 | Norfolk (city) | VA.
51155 | Pulaski | VA.
51173 | Smyth | VA.
51177 | Spotsylvania | VA.
55059 | Kenosha | WI.
55075 | Marinette | WI.
55105 | Rock | WI.
54079 | Putnam | WV.

[FR Doc. E9-17416 Filed 7-21-09; 8:45 am]

BILLING CODE 4510-FN-P